LIBRARY OF CONGRESS

Copyright Royalty Board

[Docket 14-CRB-0010-CD/SD (2010-13)]

Distribution of Cable Royalty Funds; Distribution of Satellite Royalty Funds

AGENCY: Copyright Royalty Board, Library of Congress.

ACTION: Final distribution determination.

SUMMARY: The Copyright Royalty Judges (Judges) announce the final distribution of cable and satellite royalty funds for the years 2010, 2011, 2012, and 2013. The determination is a result of agreement among the participants that claim shares of the cable and satellite royalty funds to be allocated to the Program Suppliers Claimant category. The Judges issued their allocation determination relating to cable royalty funds for the relevant years to the participants on October 18, 2018. Allocation of satellite royalty funds is not yet determined.

DATES: Applicable date: November 30, 2018.

ADDRESSES: The final distribution order is also published in eCRB at https://app.crb.gov/.

Docket: For access to the docket to read submitted background documents, go to eCRB, the Copyright Royalty Board's electronic filing and case management system, at https://app.crb.gov/ and search for docket number 14-CRB-0010-CD/SD (2010-13).

FOR FURTHER INFORMATION CONTACT: Anita Blaine, CRB Program Specialist, by telephone at (202) 707-7658 or email at crb@loc.gov.

SUPPLEMENTARY INFORMATION: The Copyright Royalty Judges (Judges) received a joint motion of MPAA-represented Program Suppliers (MPAA) and Multigroup Claimants (MGC) for entry of a consent order adopting the distribution shares proposed by the MPAA and ordering a final distribution in conformity with those agreed shares of cable and satellite television royalty funds to be allocated to the Program Suppliers category for the 2010-13 cable and satellite royalty years.

The Judges find that the parties' agreement as to the final percentage distribution has ended any remaining controversy with regard to the subject funds over which the Judges have jurisdiction and that neither party now has a significant interest related to this proceeding as to the 2010-13 cable and satellite royalty funds. Accordingly, good cause exists for entry of a final distribution determination relating to the subject funds.

Distribution of funds allocated to all other program categories, except the Devotional Programming category, was without controversy. Parties to the controversy relating to the Devotional category resolved that controversy by agreement and the Judges entered a final order with regard to the Devotional category on July 18, 2018. See 83 FR 38326. Resolution of the present controversy means that when category allocation is final for both cable and satellite royalty deposits, the Judges may order distribution of the subject funds and close the proceeding.

The Judges therefore order that the royalty shares proposed in the MPAA's Written Direct Statements (Dec. 29, 2017) are adopted for the 2010-13 cable and satellite royalty years and that final distribution of the cable and satellite royalty funds allocated to the Program Suppliers category shall be in accordance with the following relative shares.

Program Suppliers Category
| MPAA (%) | MGC (%)
Cable Royalty Year:
2010 | 99.37 | 0.63
2011 | 99.47 | 0.53
2012 | 99.45 | 0.55
2013 | 99.50 | 0.50
Satellite Royalty Year:
2010 | 99.52 | 0.48
2011 | 99.82 | 0.18
2012 | 99.82 | 0.18
2013 | 99.89 | 0.11

The Judges further order that, as the parties have presented this as an agreed determination, they have waived their rights to seek rehearing.

The Judges further order that this final distribution determination is without prejudice to the parties' right to appeal the Judges' interlocutory ruling in this consolidated proceeding with regard to both cable and satellite claims issues.

Upon issuance of this final determination, the Register of Copyrights (“Register”) shall have 60 days to conduct a statutory review. The Librarian of Congress shall review and cause this final determination, and any correction thereto by the Register, to be published in the Federal Register no later than the conclusion of the 60-day review period.

October 1, 2018.

So ordered.

Suzanne M. Barnett,

Chief United States Copyright Royalty Judge.

David R. Strickler,

United States Copyright Royalty Judge.

Jesse M. Feder,

United States Copyright Royalty Judge.

Dated: November 8, 2018.
Suzanne M. Barnett,
Chief United States Copyright Royalty Judge.
Approved by:
Carla B. Hayden,
Librarian of Congress.

[FR Doc. 2018-26092 Filed 11-29-18; 8:45 am]

BILLING CODE 1410-72-P